DEPARTMENT OF TRANSPORTATION

Office of the Secretary

Notice of Applications for Certificates of Public Convenience and Necessity and Foreign Air Carrier Permits Filed Under Subpart B (Formerly Subpart Q) During the Week Ending September 8, 2012.

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0152.

Date Filed: September 6, 2012.

Due Date for Answers, Conforming Applications, or Motion to Modify Scope: September 27, 2012.

Description: Application of EZjet GT, Inc. d/b/a EZjet Airways (“EZjet”) requesting a foreign air carrier permit to engage in scheduled foreign air transportation of persons, property and mail between any point or points in Guyana and any point or points in the United States, and to the extent necessary EZjet further requests exemption authority to provide the services described above pending issuance of a foreign air carrier permit.

Renee V. Wright,
Program Manager, Docket Operations, Federal Register Liaison.

[FR Doc. 2012-24074 Filed 9-28-12; 8:45 am]

BILLING CODE 4910-9X-P